DEPARTMENT OF DEFENSE

Department of the Navy

[Docket ID: USN-2023-HQ-0017]

Proposed Collection; Comment Request

AGENCY: Department of the Navy, Department of Defense (DoD).

ACTION: 60-Day information collection notice.

SUMMARY: In compliance with the Paperwork Reduction Act of 1995, the Naval Air Warfare Center Aircraft Division announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by November 13, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Naval Air Warfare Center Aircraft Division, 22347 Cedar Point Road, Building 2185, Patuxent River, MD 20670; ATTN: Ms. Crystal Krater, or call 301-757-6690.

SUPPLEMENTARY INFORMATION:

Title; Associated Form; and OMB Number: NAWCAD Strategic Education Office STEM Outreach Programs; NAWCAD Forms 5726/1, 5726/2, and 5726/4; OMB Control Number 0703-SEOP.

Needs and Uses: The mission of the Naval Air Warfare Center Aircraft Division's (NAWCAD) Strategic Education Office (SEO) is to provide meaningful opportunities for students in the areas of Science, Technology, Engineering, and Mathematics (STEM) through outreach activities to middle school and high school students. The purpose of the STEM programs is to provide interactive learning experiences for middle school and high school students to create awareness of the additional internship opportunities and naval careers encouraging students to pursue STEM education and career fields. Through the Southern Maryland region partnership agreements between federal agencies and educational institutions providing support and services to public and private school students, the NAWCAD SEO assists in orchestrating of variety of engagement activities to include NAWCAD hosted annual STEM centric summer camp programs, classroom speaking and demonstrations, school field trips, mentorships, and the organizing of volunteer support for all activities. To facilitate annual events, information must be collected from local area educational institutions, community groups, and/or students via three forms: NAWCAD 5726/1, “NAWCAD SEO Program Request”; NAWCAD 5726/2, “NAWCAD SEO Science Fair Mentor Program Student Application”; and NAWCAD 5726/4, “NAWCAD SEO Program Registration.”

Affected Public: Individuals or households; State, Local or Tribal Government.

NAWCAD SEO Program Request

Annual Burden Hours: 7.

Number of Respondents: 40.

Responses per Respondent: 1.

Annual Responses: 40.

Average Burden per Response: 10 minutes.

NAWCAD SEO Science Fair Mentor Program Student Application

Annual Burden Hours: 6.

Number of Respondents: 24.

Responses per Respondent: 1.

Annual Responses: 24.

Average Burden per Response: 15 minutes.

NAWCAD SEO Program Registration

Annual Burden Hours: 22.

Number of Respondents: 132.

Responses per Respondent: 1.

Annual Responses: 132.

Average Burden per Response: 10 minutes.

Total Burden

Annual Burden Hours: 35.

Number of Respondents: 196.

Annual Responses: 196.

Frequency: On occasion.

Dated: September 5, 2023.
Aaron T. Siegel,
Alternate OSD Federal Register Liaison Officer, Department of Defense.

[FR Doc. 2023-19834 Filed 9-13-23; 8:45 am]

BILLING CODE 5001-06-P